DEPARTMENT OF LABOR

Employment and Training Administration

[TA-W-85,483A]

SMC Electrical Products, Inc., Subsidiary of Becker Mining America, Inc., Including On-Site Leased Workers From Bristol Computer Services and Kelly Services, Delta, Colorado; Amended Certification Regarding Eligibility To Apply for Worker Adjustment Assistance

In accordance with Section 223 of the Trade Act of 1974, as amended (“Act”), 19 U.S.C. 2273, the Department of Labor issued a Certification of Eligibility to Apply for Worker Adjustment Assistance on September 25, 2014, applicable to workers of SMC Electrical Products, Inc., a subsidiary of Becker Mining America, Inc., including on-site leased workers from Bristol Computer Services and Kelly Services, Barboursville, West Virginia (TA-W-85,483). The Department's Notice of Determination was published in the Federal Register on September 11, 2014 (79 FR 54291).

At the request of a petitioning union official, the Department reviewed the certification for workers of the subject firm. The firm is engaged in the production of electrical power control systems.

The investigation confirmed that worker separations at SMC Electrical Products, Inc., a subsidiary of Becker Mining America, Inc., including on-site leased workers from Bristol Computer Services and Kelly Services, Barboursville, West Virginia (TA-W-85,483) are attributable to increased imports of electrical power control systems, as are worker separations at the Delta, Colorado facility.

The amended notice applicable to TA-W-85,483 and TA-W-85,483A is hereby issued as follows:

All workers of SMC Electrical Products, Inc., a subsidiary of Becker Mining America, Inc., including on-site leased workers from Bristol Computer Services and Kelly Services, Barboursville, West Virginia (TA-W-85,483) and SMC Electrical Products, Inc., a subsidiary of Becker Mining America, Inc., including on-site leased workers from Bristol Computer Services and Kelly Services, Delta, Colorado (TA-W-85,483A) who became totally or partially separated from employment on or after August 13, 2013 through September 26, 2016 are eligible to apply for adjustment assistance under Chapter 2 of Title II of the Trade Act of 1974, as amended, and are also eligible to apply for alternative trade adjustment assistance under Section 246 of the Trade Act of 1974, as amended.

Signed in Washington, DC, this 8th day of December, 2014.
Michael W. Jaffe,
Certifying Officer, Office of Trade Adjustment Assistance.

[FR Doc. 2014-30165 Filed 12-23-14; 8:45 am]

BILLING CODE 4510-FN-P